DEPARTMENT OF COMMERCE

Bureau of Industry and Security

Transportation and Related Equipment Technical Advisory Committee; Notice of Open Meeting

The Transportation and Related Equipment Technical Advisory Committee will meet on February 7, 2007, 9:30 a.m., in the Herbert C. Hoover Building, Room 6087B, 14th Street between Pennsylvania & Constitution Avenues, NW., Washington, DC. The Committee advises the Office of the Assistant Secretary for Export Administration with respect to technical questions that affect the level of export controls applicable to transportation and related equipment or technology.

Agenda

1. Welcome and Introductions.

2. Regulatory Overview.

3. Missile Technology Control Regime.

4. Wassenaar Experts Group Meeting.

5. Report on Status of Composite Materials Working Group.

6. Report by AIA on Export Control Reform Proposals.

7. Presentation of Papers and Comments by Public.

8. Follow-up on Open Action Items.

9. Closing Comments.

The meeting will be open to the public and a limited number of seats will be available. Reservations are not accepted. To the extent time permits, members of the public may present oral statements to the Committee. Written statements may be submitted at any time before or after the meeting. However, to facilitate distribution of public presentation materials to Committee members, the Committee suggests that presenters forward the public presentation materials to Yvette Springer at Yspringer@bis.doc.gov.

FOR MORE INFORMATION CONTACT: Ms. Springer on (202) 482-2813.

Dated: January 17, 2007.
Yvette Springer,
Committee Liaison Officer.

[FR Doc. 07-233 Filed 1-19-07; 8:45 am]

BILLING CODE 3510-JT-M